SUSQUEHANNA RIVER BASIN COMMISSION

Notice of Projects Approved for Consumptive Uses of Water

AGENCY: Susquehanna River Basin Commission.

ACTION: Notice of approved projects.

SUMMARY: This notice lists the projects approved by rule by the Susquehanna River Basin Commission during the period set forth in DATES.

DATES: October 1, 2010, through October 31, 2010.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(e) and 18 CFR 806.22(f) for the time period specified above:

Approvals By Rule Issued Under 18 CFR § 806.22(e):

1. Hydro Recovery, LP, Pad ID: Treatment Facility, ABR-201010061, Blossburg Borough, Tioga County, Pa.; Consumptive Use of up to 0.100 mgd; Approval Date: October 21, 2010.

Approvals By Rule Issued Under 18 CFR 806.22(f):

1. XTO Energy Incorporated, Pad ID: Levan 8526H, ABR-201010001, Pine Township, Columbia County, Pa.; Consumptive Use of up to 4.000 mgd; Approval Date: October 1, 2010.

2. East Resources Management, LLC, Pad ID: Kindon 374, ABR-201010002, Union Township, Tioga County, Pa.; Consumptive Use of up to 4.000 mgd; Approval Date: October 4, 2010.

3. Chesapeake Appalachia, LLC, Pad ID: Lemoreview Farms, ABR-201010003, Leroy Township, Bradford County, Pa.; Consumptive Use of up to 7.500 mgd; Approval Date: October 4, 2010.

4. Chesapeake Appalachia, LLC, Pad ID: Hopson, ABR-201010004, Asylum Township, Bradford County, Pa.; Consumptive Use of up to 7.500 mgd; Approval Date: October 4, 2010.

5. Chesapeake Appalachia, LLC, Pad ID: Scrivener, ABR-201010005, Rome Township, Bradford County, Pa.; Consumptive Use of up to 7.500 mgd; Approval Date: October 4, 2010.

6. East Resources Management, LLC, Pad ID: Red Run Mountain Inc 739, ABR-201010006, McIntyre Township, Lycoming County, Pa.; Consumptive Use of up to 4.000 mgd; Approval Date: October 5, 2010.

7. Ultra Resources, Inc., Pad ID: State 814, ABR-201010007, Elk Township, Tioga County, Pa.; Consumptive Use of up to 4.990 mgd; Approval Date: October 6, 2010, including a partial waiver of 18 CFR 806.15.

8. Talisman Energy USA Inc., Pad ID: 05 056 Miller, ABR-201010008, Warren Township, Bradford County, Pa.; Consumptive Use of up to 6.000 mgd; Approval Date: October 6, 2010.

9. Chesapeake Appalachia, LLC, Pad ID: Craige, ABR-201010009, Rush Township, Susquehanna County, Pa.; Consumptive Use of up to 7.500 mgd; Approval Date: October 7, 2010.

10. East Resources Management, LLC, Pad ID: Heuer 701, ABR-201010010, Union Township, Tioga County, Pa.; Consumptive Use of up to 4.000 mgd; Approval Date: October 7, 2010.

11. East Resources Management, LLC, Pad ID: Heath 418, ABR-201010011, Delmar Township, Tioga County, Pa.; Consumptive Use of up to 4.000 mgd; Approval Date: October 7, 2010.

12. Talisman Energy USA Inc., Pad ID: 05 064 Manchester K, ABR-201010012, Orwell Township, Bradford County, Pa.; Consumptive Use of up to 6.000 mgd; Approval Date: October 7, 2010.

13. East Resources Management, LLC, Pad ID: Redl 600, ABR-201010013, Sullivan Township, Tioga County, Pa.; Consumptive Use of up to 4.000 mgd; Approval Date: October 7, 2010.

14. East Resources Management, LLC, Pad ID: East Point Fish & Game Club 726, ABR-201010014, Liberty Township, Tioga County, Pa.; Consumptive Use of up to 4.000 mgd; Approval Date: October 8, 2010.

15. Chesapeake Appalachia, LLC, Pad ID: Yvonne, ABR-201010015, Rush Township, Susquehanna County, Pa.; Consumptive Use of up to 7.500 mgd; Approval Date: October 8, 2010.

16. Chesapeake Appalachia, LLC, Pad ID: Goll, ABR-201010016, Ulster Township, Bradford County, Pa.; Consumptive Use of up to 7.500 mgd; Approval Date: October 12, 2010.

17. Williams Production Appalachia LLC, Pad ID: Hollenbeck ABR, ABR-201010017, Franklin Township, Susquehanna County, Pa.; Consumptive Use of up to 4.000 mgd; Approval Date: October 12, 2010.

18. Southwestern Energy Production Company, Pad ID: Daniels Pad, ABR-201010018, Gibson Township, Susquehanna County, Pa.; Consumptive Use of up to 4.990 mgd; Approval Date: October 12, 2010.

19. Chesapeake Appalachia, LLC, Pad ID: Landmesser, ABR-201010019, Towanda Township, Bradford County, Pa.; Consumptive Use of up to 7.500 mgd; Approval Date: October 12, 2010.

20. Chesapeake Appalachia, LLC, Pad ID: Field, ABR-201010020, Cherry Township, Sullivan County, Pa.; Consumptive Use of up to 7.500 mgd; Approval Date: October 12, 2010.

21. Talisman Energy USA Inc., Pad ID: 05 040 Cook, ABR-201010021, Orwell Township, Bradford County, Pa.; Consumptive Use of up to 6.000 mgd; Approval Date: October 13, 2010.

22. Chesapeake Appalachia, LLC, Pad ID: Millville, ABR-201010022, Fox Township, Sullivan County, Pa.; Consumptive Use of up to 7.500 mgd; Approval Date: October 13, 2010.

23. East Resources Management, LLC, Pad ID: Signor 578, ABR-201010023, Charleston Township, Tioga County, Pa.; Consumptive Use of up to 4.000 mgd; Approval Date: October 13, 2010.

24. Talisman Energy USA Inc., Pad ID: 05 070 Corbin T, ABR-201010024, Orwell Township, Bradford County, Pa.; Consumptive Use of up to 6.000 mgd; Approval Date: October 13, 2010.

25. Chesapeake Appalachia, LLC, Pad ID: Sidonio, ABR-201010025, Ulster Township, Bradford County, Pa.; Consumptive Use of up to 7.500 mgd; Approval Date: October 14, 2010.

26. Talisman Energy USA Inc., Pad ID: 05 022 DeCristo, ABR-201010026, Warren Township, Bradford County, Pa.; Consumptive Use of up to 6.000 mgd; Approval Date: October 14, 2010.

27. Talisman Energy USA Inc., Pad ID: 05 029 Neville, ABR-201010027, Warren Township, Bradford County, Pa.; Consumptive Use of up to 6.000 mgd; Approval Date: October 14, 2010.

28. East Resources Management, LLC, Pad ID: Harman 565, ABR-201010028, Charleston Township, Tioga County, Pa.; Consumptive Use of up to 4.000 mgd; Approval Date: October 15, 2010.

29. East Resources Management, LLC, Pad ID: Hudson 575, ABR-201010029, Charleston Township, Tioga County, Pa.; Consumptive Use of up to 4.000 mgd; Approval Date: October 15, 2010.

30. East Resources Management, LLC, Pad ID: Dietz 490, ABR-201010030, Richmond Township, Tioga County, Pa.; Consumptive Use of up to 4.000 mgd; Approval Date: October 15, 2010.

31. Southwestern Energy Production Company, Pad ID: Behrend Pad, ABR-201010031, Herrick Township, Bradford County, Pa.; Consumptive Use of up to 4.990 mgd; Approval Date: October 18, 2010.

32. Talisman Energy USA Inc., Pad ID: 05 129 Upham R, ABR-201010032, Pike Township, Bradford County, Pa.; Consumptive Use of up to 6.000 mgd; Approval Date: October 18, 2010.

33. Talisman Energy USA Inc., Pad ID: 05 118 Allyn A, ABR-201010033, Warren Township, Bradford County, Pa.; Consumptive Use of up to 6.000 mgd; Approval Date: October 18, 2010.

34. Talisman Energy USA Inc., Pad ID: 05 034 Jones, ABR-201010034, Pike Township, Bradford County, Pa.; Consumptive Use of up to 6.000 mgd; Approval Date: October 18, 2010.

35. Ultra Resources, Inc., Pad ID: State 841, ABR-201010035, Elk Township, Tioga County, Pa.; Consumptive Use of up to 4.990 mgd; Approval Date: October 19, 2010, including a partial waiver of 18 CFR 806.15.

36. Ultra Resources, Inc., Pad ID: State 827, ABR-201010036, Elk Township, Tioga County, Pa.; Consumptive Use of up to 4.990 mgd; Approval Date: October 19, 2010, including a partial waiver of 18 CFR 806.15.

37. Ultra Resources, Inc., Pad ID: State 820, ABR-201010037, Gaines Township, Tioga County, Pa.; Consumptive Use of up to 4.990 mgd; Approval Date: October 19, 2010, including a partial waiver of 18 CFR 806.15.

38. Ultra Resources, Inc., Pad ID: State 818, ABR-201010038, Elk Township, Tioga County, Pa.; Consumptive Use of up to 4.990 mgd; Approval Date: October 19, 2010, including a partial waiver of 18 CFR 806.15.

39. Ultra Resources, Inc., Pad ID: State 816, ABR-201010039, Elk Township, Tioga County, Pa.; Consumptive Use of up to 4.990 mgd; Approval Date: October 19, 2010, including a partial waiver of 18 CFR 806.15.

40. East Resources Management, LLC, Pad ID: Westbrook 487, ABR-201010040, Richmond Township, Tioga County, Pa.; Consumptive Use of up to 4.000 mgd; Approval Date: October 19, 2010.

41. East Resources Management, LLC, Pad ID: Berguson 622, ABR-201010041, Covington Township, Tioga County, Pa.; Consumptive Use of up to 4.000 mgd; Approval Date: October 19, 2010.

42. East Resources Management, LLC, Pad ID: Zimmer 586, ABR-201010042, Covington Township, Tioga County, Pa.; Consumptive Use of up to 4.000 mgd; Approval Date: October 19, 2010.

43. East Resources Management, LLC, Pad ID: Stevens 413, ABR-201010043, Delmar Township, Tioga County, Pa.; Consumptive Use of up to 4.000 mgd; Approval Date: October 19, 2010.

44. Chesapeake Appalachia, LLC, Pad ID: Folta, ABR-201010044, Tuscarora Township, Bradford County, Pa.; Consumptive Use of up to 7.500 mgd; Approval Date: October 19, 2010.

45. Talisman Energy USA Inc., Pad ID: 05 097 Hartnett, ABR-201010045, Warren Township, Bradford County, Pa.; Consumptive Use of up to 6.000 mgd; Approval Date: October 19, 2010.

46. Talisman Energy USA Inc., Pad ID: 05 015 Warner, ABR-201010046, Stevens Township and Pike Township, Bradford County, Pa.; Consumptive Use of up to 6.000 mgd; Approval Date: October 19, 2010.

47. Ultra Resources, Inc., Pad ID: State 842, ABR-201010047, Elk Township, Tioga County, Pa.; Consumptive Use of up to 4.990 mgd; Approval Date: October 19, 2010, including a partial waiver of 18 CFR 806.15.

48. Ultra Resources, Inc., Pad ID: State 843, ABR-201010048, Elk Township, Tioga County, Pa.; Consumptive Use of up to 4.990 mgd; Approval Date: October 19, 2010, including a partial waiver of 18 CFR 806.15.

49. Chesapeake Appalachia, LLC, Pad ID: Gemm, ABR-201010049, Litchfield Township, Bradford County, Pa.; Consumptive Use of up to 7.500 mgd; Approval Date: October 19, 2010.

50. Chesapeake Appalachia, LLC, Pad ID: Phillips, ABR-201010050, Elkland Township, Sullivan County, Pa.; Consumptive Use of up to 7.500 mgd; Approval Date: October 19, 2010.

51. Chesapeake Appalachia, LLC, Pad ID: Grant, ABR-201010051, Smithfield Township, Bradford County, Pa.; Consumptive Use of up to 7.500 mgd; Approval Date: October 20, 2010.

52. East Resources Management, LLC, Pad ID: Schimmel 828, ABR-201010052, Farmington Township, Tioga County, Pa.; Consumptive Use of up to 4.000 mgd; Approval Date: October 19, 2010.

53. East Resources Management, LLC, Pad ID: Parsons 613, ABR-201010053, Delmar Township, Tioga County, Pa.; Consumptive Use of up to 4.000 mgd; Approval Date: October 19, 2010.

54. East Resources Management, LLC, Pad ID: Signor 566, ABR-201010054, Charleston Township, Tioga County, Pa.; Consumptive Use of up to 4.000 mgd; Approval Date: October 19, 2010.

55. East Resources Management, LLC, Pad ID: Smithgall 293, ABR-201010055, Charleston Township, Tioga County, Pa.; Consumptive Use of up to 4.000 mgd; Approval Date: October 20, 2010.

56. Chesapeake Appalachia, LLC, Pad ID: Tall Maples, ABR-201010056, Elkland Township, Sullivan County, Pa.; Consumptive Use of up to 7.500 mgd; Approval Date: October 20, 2010.

57. Chesapeake Appalachia, LLC, Pad ID: Tama, ABR-201010057, North Towanda Township, Bradford County, Pa.; Consumptive Use of up to 7.500 mgd; Approval Date: October 20, 2010.

58. EQT Production Co., Pad ID: Phoenix H, ABR-201010058, Morris Township, Tioga County, Pa.; Consumptive Use of up to 3.000 mgd; Approval Date: October 20, 2010.

59. Williams Production Appalachia LLC, Pad ID: Resource Recovery Well Pad 1, ABR-201010059, Snow Shoe Township, Centre County, Pa.; Consumptive Use of up to 4.000 mgd; Approval Date: October 21, 2010.

60. Williams Production Appalachia LLC, Pad ID: Resource Recovery Well Pad 3, ABR-201010060, Snow Shoe Township, Centre County, Pa.; Consumptive Use of up to 4.000 mgd; Approval Date: October 21, 2010.

61. Chesapeake Appalachia, LLC, Pad ID: Abel, ABR-201010062, Shrewsbury Township, Sullivan County, Pa.; Consumptive Use of up to 7.500 mgd; Approval Date: October 25, 2010.

62. Talisman Energy USA Inc., Pad ID: 05 031 Smolko, ABR-201010063, Pike Township, Bradford County, Pa.; Consumptive Use of up to 6.000 mgd; Approval Date: October 27, 2010.

63. Chesapeake Appalachia, LLC, Pad ID: Shores, ABR-201010064, Sheshequin Township, Bradford County, Pa.; Consumptive Use of up to 7.500 mgd; Approval Date: October 27, 2010.

64. Chesapeake Appalachia, LLC, Pad ID: Juser, ABR-201010065, Rush Township, Susquehanna County, Pa.; Consumptive Use of up to 7.500 mgd; Approval Date: October 29, 2010.

65. Chesapeake Appalachia, LLC, Pad ID: Drake, ABR-201010066, Litchfield Township, Bradford County, Pa.; Consumptive Use of up to 7.500 mgd; Approval Date: October 28, 2010.

66. Chief Oil & Gas LLC, Pad ID: Smith Drilling Pad #1, ABR-201010067, Franklin Township, Bradford County, Pa.; Consumptive Use of up to 2.000 mgd; Approval Date: October 29, 2010.

67. Chief Oil & Gas LLC, Pad ID: B & B Investment Group Drilling Pad #1, ABR-201010068, Asylum Township, Bradford County, Pa.; Consumptive Use of up to 2.000 mgd; Approval Date: October 29, 2010.

68. Chief Oil & Gas LLC, Pad ID: Boileau Drilling Pad #1, ABR-201010069, Goshen Township, Clearfield County, Pa.; Consumptive Use of up to 2.000 mgd; Approval Date: October 29, 2010.

69. XTO Energy Incorporated, Pad ID: PA Tract 8546H, ABR-201010070, Chapman Township, Clinton County, Pa.; Consumptive Use of up to 4.000 mgd; Approval Date: October 29, 2010.

Authority: Pub L. 91-575, 84 Stat. 1509 et seq., 18 CFR Parts 806, 807, and 808.

Dated: November 10, 2010.
Stephanie L. Richardson,
Secretary to the Commission.

[FR Doc. 2010-29331 Filed 11-19-10; 8:45 am]

BILLING CODE 7040-01-P